NATIONAL SCIENCE FOUNDATION

Privacy Act; System of Records

AGENCY: National Science Foundation.

ACTION: Notice of amendment to five existing systems of records and the standard routine uses.

SUMMARY: Pursuant to the Privacy Act of 1974 (5 U.S.C. 552a), the National Science Foundation (NSF) is providing public notice of revisions to the text of five existing systems of records: NSF-12, Fellowships and Other Awards; NSF-50: Principal Investigator/Proposal File and Associated Records; NSF-51, Reviewer/Proposal File and Associated Records; NSF-54, Reviewer/Fellowships and Other Awards File and Associated Records; and NSF-64, Project Participant File. In addition, NSF is amending its standard routine uses for all NSF systems of records.

DATES: This action will be effective without further notice on February 2, 2015 unless modified by a subsequent notice to incorporate comments received from the public.

ADDRESSES: You may submit comments, identified by [docket number and/or RIN number __], by any of the following methods:

• Federal eRulemaking Portal: http://www.regulations.gov. Follow the instructions for submitting comments.

• Mail: Sandra Evans, Privacy Officer, Office of the General Counsel, National Science Foundation, 4201 Wilson Boulevard, Room 1265, Arlington, VA 22230. NSF will post all comments on the NSF's internet Web site (http://www.nsf.gov/policies/foia.jsp) All comments submitted in response to this Notice will become a matter of public record. Therefore, you should submit only information that you wish to make publicly available. For detailed instructions on submitting comments, see the “Public Participation” heading of the SUPPLEMENTARY INFORMATION section of this document.

FOR FURTHER INFORMATION CONTACT: Privacy Officer, Office of General Counsel, National Science Foundation, 4201 Wilson Boulevard, Room 1265, Arlington, VA 22230, or by telephone at 703-292-8060.

SUPPLEMENTARY INFORMATION:

I. Background

The NSF maintains the “Fellowships and Other Awards”; “Principal Investigator/Proposal File and Associated Records”; “Reviewer/Proposal File and Associated Records”; “Reviewer/Fellowship and Other Awards File and Associated Records”; and “Project Participant File.” These changes more adequately describe the systems and update the routine uses. All revised system notices are reprinted in their entirety.

NSF is also amending its standard routine uses for all NSF systems of records. The changes made to the standard routine uses now proposed will bring the total number of standard routine use to eleven. Most of the eleven standard routine uses previously existed as routine uses within each individual NSF SORN.

NSF-12 contains records on fellowship applicants; nominees for fellowships by an institution on behalf of the nominee; and nominees for other specific individual awards. Fellowship awards are usually administered by the applicant or the nominee's home institution. An amendment to this system notice was last published in the Federal Register on August 20, 2007, effective on September 30, 2007, 72 FR 46520-46521.

NSF-50 contains records on research and other proposals jointly submitted by individual applicants (principal investigators) and their home academic or other institutions. NSF-50 includes submitted proposals, review materials, and when an award is made, records concerning the administration of the award, and awardee project reports submitted to NSF. An amendment to this system notice was last published in the Federal Register on August 20, 2007, effective on September 30, 2007, 72 FR 46520-46521.

NSF-51 is a subsystem of NSF-50 and contains information about those who review proposals for NSF including the reviewer's name, proposal title and its identifying number, and other related material. The system enables program offices to reference specific reviewers and maintain appropriate files for use in evaluating applications for grants or other support. An amendment to this system notice was last published in the Federal Register on August 20, 2007, effective on September 30, 2007, 72 FR 46520-46521.

NSF-54 contains similar records about reviewers of applications as the system of records for “Fellowships and Other Awards” (NSF-12). An amendment to this system notice was last published in the Federal Register on August 20, 2007, effective on September 30, 2007, 72 FR 46520-46521.

NSF-64, Project Participant File, contains information on certain participants who work on NSF-funded projects, other than principal investigators or project directors covered by NSF-50. An amendment to this system notice was last published in the Federal Register on August 20, 2007, effective on September 30, 2007, 72 FR 46520-46521.

The amendments to these systems will be effective as proposed at the end of the comment period (February 2, 2015), unless modified by a subsequent notice to incorporate comments received from the public.

II. Privacy Act

The Privacy Act of 1974, as amended (5 U.S.C. 552a), embodies fair information practice principles in a statutory framework governing the means by which Federal Agencies collect, maintain, use, and disseminate individual's personal information. A “system of records” is a group of any records under the control of an agency for which information is retrieved by the name of an individual or by some identifying number, symbol, or other identifying particular assigned to the individual. In the Privacy Act, an individual is defined as a U.S. citizen or lawful permanent resident. As a matter of policy, NSF extends administrative Privacy Act protections to all individuals. Individuals may request access to their own records that are maintained in a system of records in the possession or control of NSF by complying with NSF Privacy Act regulations, 45 CFR part 613.

The Privacy Act requires each agency to publish in the Federal Register a description denoting the type and character of each system of records that the agency maintains, the routine uses that are contained in each system in order to make agency record keeping practices transparent, to notify individuals regarding the uses of their records, and to assist individuals to find such records within the agency. Below are descriptions of the following NSF systems: NSF-12, Fellowships and Other Awards; NSF-50: Principal Investigator/Proposal File and Associated Records; NSF-51, Reviewer/Proposal File and Associated Records; NSF-54, Reviewer/Fellowships and Other Awards File and Associated Records; and NSF-64, Project Participant File.

In accordance with 5 U.S.C. 552a(r), NSF has provided a report of this system of records to the Office of Management and Budget; the Chairman, Senate Committee on Governmental Affairs; and the Chairman, House Committee on Government Reform and Oversight.

III. Public Participation

Before including your address, phone number, email address, or other personal identifying information in your comment, you should be aware that your entire comment including your personal identifying information may be made publicly available at any time.

Dated: December 16, 2014.
Sandra Evans,
Privacy Act Officer, National Science Foundation.

Privacy Act Systems—Standard Routine Uses—National Science Foundation

The following standard routine uses apply, subject to the Privacy Act of 1974, except where otherwise noted, to each system of records maintained by the National Science Foundation:

1. Members of Congress. Information from a system may be disclosed to congressional offices in response to inquiries from the congressional offices made at the request of the individual to whom the record pertains.

2. Freedom of Information Act/Privacy Act Compliance. Information from a system may be disclosed to the Department of Justice or the Office of Management and Budget in order to obtain advice regarding NSF's obligations under the Freedom of Information Act and the Privacy Act.

3. Counsel. Information from a system may be disclosed to NSF's legal representatives, including the Department of Justice and other outside counsel, where the agency is a party in litigation or has an interest in litigation, including when any of the following is a party to litigation or has an interest in such litigation: (a) NSF, or any component thereof; (b) any NSF employee in his or her official capacity; (c) any NSF employee in his or her individual capacity, where the Department of Justice has agreed to, or is considering a request to, represent the employee; Or (d) the United States, where NSF determines that litigation is likely to affect the agency or any of its components.

4. National Archives, General Services Administration. Information from a system may be disclosed to representatives of the General Services Administration and the National Archives and Records Administration (NARA) during the course of records management inspections conducted under the authority of 44 U.S.C. 2904 and 2906.

5. Response to an Actual or Suspected Compromise or Breach of Personally Identifiable Information. Information from a system may be disclosed to appropriate agencies, entities, and persons when (a) NSF suspects or has confirmed that the security or confidentiality of information in the system of records has been compromised; (b) NSF has determined that as a result of the suspected or confirmed compromise there is a risk of harm to economic or property interests, identity theft or fraud, or harm to the security or integrity of this system or other systems or programs (whether maintained by NSF or another agency or entity) that rely upon the compromised information; and (c) the disclosure made to such agencies, entities, and persons is reasonably necessary to assist with NSF's efforts to respond to the suspected or confirmed compromise and prevent, minimize, or remedy such harm.

6. Courts. Information from a system may be disclosed to the Department of Justice or other agencies in the event of a pending court or formal administrative proceeding, when records are relevant to that proceeding, for the purpose of representing the government, or in the course of presenting evidence, or they may be produced to parties or counsel involved in the proceeding in the course of pre-trial discovery.

7. Contractors. Information from a system may be disclosed to contractors, agents, experts, consultants, or others performing work on a contract, service, cooperative agreement, job, or other activity for NSF and who have a need to access the information in the performance of their duties or activities for NSF.

8. Audit. Information from a system may be disclosed to government agencies and other entities authorized to perform audits, including financial and other audits, of the agency and its activities.

9. Law Enforcement. Information from a system may be disclosed to appropriate Federal, State, or local agencies responsible for investigating, prosecuting, enforcing, or implementing a statute, rule, regulation, or order, to disclose pertinent information when NSF becomes aware of an indication of a violation or potential violation of civil or criminal law or regulation.

10. Disclosure When Requesting Information. Information from a system may be disclosed to Federal, State, or local agencies which maintain civil, criminal, or other relevant enforcement information or other pertinent information, such as current licenses, if necessary, to obtain information relevant to an agency decision concerning the hiring or retention of an employee, the issuance of a security clearance, the letting of a contract, or the issuance of a license, grant, or other benefit.

11. To the news media and the public when: (1) A matter has become public knowledge, (2) the NSF Office of the Director determines that disclosure is necessary to preserve confidence in the integrity of NSF or is necessary to demonstrate the accountability of NSF's officers, employees, or individuals covered by this system, or (3) the Office of the Director determines that there exists a legitimate public interest in the disclosure of the information, except to the extent that the Office of the Director determines in any of these situations that disclosure of specific information in the context of a particular case would constitute an unwarranted invasion of personal privacy.

NSF-12

SYSTEM NAME:

Fellowships and Other Awards.

SECURITY CLASSIFICATION:

None.

SYSTEM LOCATION:

NSF headquarters, Virginia.

CATEGORIES OF INDIVIDUALS COVERED BY THE SYSTEM:

Individuals applying or nominated for and/or receiving NSF support, either individually or through an academic institution, including fellowships or other awards to individuals of various types.

CATEGORIES OF RECORDS IN THE SYSTEM:

Information varies depending on the type of fellowship or award. Information may include personal information supplied with the application or nomination; reference reports; transcripts and Graduate Record Examination scores to the extent required during the application process; abstracts; evaluations and recommendations; review records and selection process results; administrative data and any correspondence accumulating during fellows' tenure; demographic information if voluntarily provided by the individual; and other related materials.

AUTHORITY FOR MAINTENANCE OF THE SYSTEM:

20 U.S.C. 3915; 44 U.S.0 3101; and 42 U.S.C. 1869, 1870, 1880, 1881a.

PURPOSE(S):

To maintain appropriate files and data to evaluate applications or nominations for fellowships or other awards, to make decisions regarding which proposals to fund or awards to make, to administer awards, and to carry out other authorized internal duties.

ROUTINE USES OF RECORDS MAINTAINED IN THE SYSTEM, INCLUDING CATEGORIES OF USERS AND THE PURPOSES OF SUCH USES:

NSF standard routine uses apply. In addition, information may be disclosed to:

(1) Qualified reviewers for their opinion and evaluation of applicants or nominees (and their proposals, where applicable) as part of the NSF application review process; and to other Government agencies or other entities needing information regarding applicants or nominees as part of a joint application review process, or in order to coordinate programs or policy.

(2) Individual or institutional applicants, nominees and grantee institutions to provide or obtain data as part of the application review process, award decisions, or administering awards.

(3) Other entities when merging records with other computer files to carry out statistical studies for or otherwise assist NSF with program management, evaluation, or reporting. Disclosure may be made for this purpose to NSF contractors and collaborating researchers, and other Government agencies and qualified research institutions and their staffs. Disclosures are made only after scrutiny of research protocols and with appropriate controls. The results of such studies are statistical in nature and do not identify individuals.

(4) Contractors, grantees, volunteers, experts, consultants, advisors, and other individuals who perform a service to or work on or under a contract, grant, cooperative agreement, advisory committee, committee of visitors, or other arrangement with or for the Federal government, as necessary to carry out their assigned duties. The contractors are subject to the provisions of the Privacy Act.

(5) The applicant, nominating, or grantee institution, or an institution the applicant, nominee, or fellow or awardee is attending or planning to attend or employed by, may be given information (such as name, field of study, and other information directly relating to the fellowship, review status including the agency's decision, year of first award, tenure pattern, start time, whether receiving international travel allowance or a mentoring assistantship), for purposes of facilitating review or award decisions or administering fellowships or awards. Notice of the agency's decision may be given to nominators and home institutions.

(6) In the case of fellows or awardees receiving stipends directly from the Government, to the Department of Treasury for preparation of checks or electronic fund transfer authorizations.

(7) Fellows' or awardees' name, baccalaureate institution, current institution, and field of study may be released for public information/affairs purposes including press releases.

(8) In the case of Presidential awards administered by NSF, including the National Medal of Science, the Presidential Early Career Awards to Scientists and Engineers, and the Presidential Awards for Teaching and Mentoring, disclosure may be made to personnel in the Office of the President for further review, processing, and selection of awardees.

(9) In the case of the Presidential Award for Excellence in Science, Mathematics and Engineering Mentoring, the contact information of the awardees, including name, baccalaureate institution, current institution, field of study, personal address, personal phone number, and personal email address may be released to the awardees' United States congressional representatives, or congressional representatives' staff members, for the purpose of allowing congressional representatives to contact the awardee to issue letters of congratulations or otherwise communicate regarding the award.

POLICIES AND PRACTICES FOR STORING, RETRIEVING, ACCESSING, RETAINING, AND DISPOSING OF RECORDS IN THE SYSTEM:

STORAGE:

Records are stored in paper and/or on electronic digital media.

RETRIEVABILITY:

Records are retrieved by an applicant or nominee's name or identification number.

SAFEGUARDS:

Records are protected by administrative, technical, and physical safeguards administered by NSF.

RETENTION AND DISPOSAL:

Records are maintained and disposed of in accordance with National Archives and Records Administration (NARA)-approved record schedules. For example, fellowship application files for awardees are kept for ten years after completion of fellowship or award, then destroyed, while unsuccessful fellowship application files are destroyed after three years; files of recipients of the Vannevar Bush Award are permanent and eventually retired to the National Archives, while those of non-recipients are destroyed after five years.

SYSTEM MANAGER(S) AND ADDRESS:

Director or designee of particular office or program maintaining such records, NSF headquarters, Virginia.

NOTIFICATION PROCEDURE:

Follow the Requesting Access to Records procedures found at 45 CFR part 613.

RECORD ACCESS PROCEDURES:

Follow the Requesting Access to Records procedures found at 45 CFR part 613. You can expedite your request if you identify the fellowship or award program about which you are interested. For example, indicate whether you applied for or received a “Graduate Fellowship” as opposed to merely saying you want a copy of your fellowship records.

CONTESTING RECORD PROCEDURES:

Follow the procedures found at 45 CFR part 613.

RECORD SOURCE CATEGORIES:

Individuals applying or nominated for, or receiving support; references; review records; and administrative data developed during selection process and award tenure.

EXEMPTIONS CLAIMED FOR THE SYSTEM:

The portions of this system consisting of data that would identify references, reviewers, or other persons supplying evaluations of applicants or nominees for fellowships or other awards (and where applicable, their proposals) have been exempted at 45 CFR 613.5 pursuant to 5 U.S.C. 552a(k)(5).

NSF-50

SYSTEM NAME:

Principal Investigator/Proposal File and Associated Records.

SECURITY CLASSIFICATION:

None.

SYSTEM LOCATION:

NSF headquarters, Virginia.

CATEGORIES OF INDIVIDUALS COVERED BY THE SYSTEM:

Individuals (known as principal investigators) who have requested and/or received research or other support from NSF, either independently or through an academic or other institution.

CATEGORIES OF RECORDS IN THE SYSTEM:

(1) Proposal Data—Names and addresses of principal investigators (PIs); NSF-assigned non-sensitive identification numbers; PI demographic data, if voluntarily provided; proposals and supporting data from applicants, either individuals or institutions; and financial data.

(2) Review Data—Evaluations from peer reviewers, including reviews and/or panel discussion summaries as applicable or other related material.

(3) Post-Award Data for Awards—Project reports on results of projects funded by NSF which may include major research activities and findings; research training; educational and outreach activities; and products such as citations to publications produced, contributions resulting from the research, and other related material.

AUTHORITY FOR MAINTENANCE OF THE SYSTEM:

42 U.S.C. 1870; 44 U.S.C. 3101.

PURPOSE(S):

(1) To evaluate proposals for NSF-funded projects using data generated as part of the NSF merit review process.

(2) To identify and contact scientists, engineers, or educators, who may be interested in applying for support, in attending a scientific or similar meeting, in applying for a position, or in taking advantage of some similar opportunity or who may be interested in serving as reviewers in the peer review system or for inclusion on a panel or advisory committee. Information from this system for this purpose may be entered in NSF System 51, “Reviewer/Proposal File and Associated Records,” to be used as a source of potential candidates to serve as reviewers as part of the NSF merit review process, or for inclusion on a review panel or advisory committee.

(3) To evaluate progress and results of NSF-funded projects for program management, evaluation or reporting.

ROUTINE USES OF RECORDS MAINTAINED IN THE SYSTEM, INCLUDING CATEGORIES OF USERS AND THE PURPOSES OF SUCH USES:

NSF standard routine uses apply. In addition, information may be disclosed to:

(1) Qualified reviewers for their opinion and evaluation of applicants and their proposals as part of the NSF application review process; and to other Government agencies or other entities needing information regarding applicants or nominees as part of a joint application review process, or in order to coordinate programs or policy.

(2) Individual or institutional applicants and grantee institutions to provide or obtain data as part of the application review process, award decisions, or administering grant awards.

(3) Other entities when merging records with other computer files to carry out statistical studies for or otherwise assist NSF with program management, evaluation, or reporting. Disclosure may be made for this purpose to NSF contractors and collaborating researchers, and other government agencies and qualified research institutions and their staffs. Disclosures are made only after scrutiny of research protocols and with appropriate controls. The results of such studies are statistical in nature and do not identify individuals.

(4) Contractors, grantees, volunteers, experts, consultants, advisors, and other individuals who perform a service to or work on or under a contract, grant, cooperative agreement, advisory committee, committee of visitors, or other arrangement with or for the Federal government, as necessary to carry out their duties in pursuit of the purposes described above. The contractors are subject to the provisions of the Privacy Act.

(5) The name, home institution, field of study, city, state and zip code of PIs whose proposals are selected for funding by NSF may be released for public information/affairs purposes including press releases.

POLICIES AND PRACTICES FOR STORING, RETRIEVING, ACCESSING, RETAINING, AND DISPOSING OF RECORDS IN THE SYSTEM:

STORAGE:

Records are stored in paper and/or on electronic digital media.

RETRIEVABILITY:

Records are retrieved by a PI's name or identification number, or by proposal number.

SAFEGUARDS:

Records are protected by administrative, technical, and physical safeguards administered by NSF.

RETENTION AND DISPOSAL:

Records are maintained and disposed of in accordance with NARA approved record schedules. Awarded proposals are permanent records and are transferred to NARA in accordance with the approved record schedule. Declined or withdrawn paper proposals (submitted prior to the eJacket system) are destroyed five years after close of year in which declined or withdrawn. Declined electronic proposals (submitted through eJacket) are retained in electronic archive on site at NSF for ten years after close of year in which declined or withdrawn. Electronic files are destroyed at the end of the ten year retention period.

SYSTEM MANAGER(S) AND ADDRESS:

Director/Head or designee of particular Division or Office maintaining such records, NSF headquarters, Virginia.

NOTIFICATION PROCEDURE:

Follow the Requesting Access to Records procedures found at 45 CFR part 613.

RECORD ACCESS PROCEDURES:

Follow the Requesting Access to Records procedures found at 45 CFR part 613.

CONTESTING RECORD PROCEDURES:

Follow the procedures found at 45 CFR part 613.

RECORD SOURCE CATEGORIES:

Record sources are PIs, academic or other applicant institutions involved, proposal reviewers, and NSF program officials.

EXEMPTIONS CLAIMED FOR THE SYSTEM:

The portions of this system consisting of data that would identify reviewers or other persons supplying evaluations of NSF proposals have been exempted at 45 CFR part 613.5, pursuant to 5 U.S.C. 552a(k)(5).

NSF-51

SYSTEM NAME:

Reviewer/Proposal File and Associated Records.

SECURITY CLASSIFICATION:

None.

SYSTEM LOCATION:

National Science Foundation Headquarters, Virginia.

CATEGORIES OF INDIVIDUALS COVERED BY THE SYSTEM:

Reviewers who evaluate proposals submitted to the Foundation, either by submitting individual comments, or by serving on review panels or site visit teams, or both.

CATEGORIES OF RECORDS IN THE SYSTEM:

The “Reviewer/Proposal File and Associated Records” system is a subsystem of the “Principal Investigator/Proposal File and Associated Records” system (NSF-50), and contains the reviewer's name, title of proposal(s) reviewed and identifying number, and other related material. Information supplied by reviewers or potential reviewers includes their affiliation, contact information, educational degrees and possibly other background information about the reviewer, and reviewer demographic information, if voluntarily provided.

AUTHORITY FOR MAINTENANCE OF THE SYSTEM:

42 U.S.C. 1870; 44 U.S.C. 3101.

PURPOSE(S) OF THE SYSTEM:

The system enables program offices to reference specific reviewers and maintain appropriate files for use in evaluating applications for grants or other support. NSF employees may access the system to help select reviewers as part of the merit review process, and to carry out other authorized duties.

ROUTINE USES OF RECORDS MAINTAINED IN THE SYSTEM, INCLUDING CATEGORIES OF USERS AND THE PURPOSES OF SUCH USES:

NSF standard routine uses apply. In addition, information may be disclosed to:

(1) Qualified reviewers (the names of other reviewers and related review material only) as part of the NSF application review process.

(2) Other Government agencies or other entities as part of a joint application review process, or in order to coordinate programs or policy.

(3) Federal government agencies needing names of potential reviewers and specialists in particular fields.

(4) Other entities when merging records with other computer files to carry out statistical studies for or otherwise assist NSF with program management, evaluation, or reporting. Disclosure may be made for this purpose to NSF contractors and collaborating researchers, and other government agencies and qualified research institutions and their staffs. Disclosures are made only after scrutiny of research protocols and with appropriate controls. The results of such studies are statistical in nature and do not identify individuals.

(5) Contractors, grantees, volunteers, experts, consultants, advisors, and other individuals who perform a service to or work on or under a contract, grant, cooperative agreement, advisory committee, committee of visitors, or other arrangement with or for the Federal government, as necessary to carry out their duties in pursuit of the purposes described above. The contractors are subject to the provisions of the Privacy Act.

POLICIES AND PRACTICES FOR STORING, RETRIEVING, ACCESSING, RETAINING, AND DISPOSING OF RECORDS IN THE SYSTEM:

STORAGE:

Records are stored in paper and/or on electronic digital media.

RETRIEVABILITY:

Records are retrieved by a reviewer's name or identification number, if any.

SAFEGUARDS:

Records are protected by administrative, technical, and physical safeguards administered by NSF.

RETENTION AND DISPOSAL:

Reviewer records are cumulative and maintained indefinitely.

SYSTEM MANAGER(S) AND ADDRESS:

Director/Head or designee of particular Division or Office maintaining such records, NSF headquarters, Virginia.

NOTIFICATION PROCEDURE:

Follow the Requesting Access to Records procedures found at 45 CFR part 613.

RECORD ACCESS PROCEDURES:

Follow the Requesting Access to Records procedures found at 45 CFR part 613.

CONTESTING RECORD PROCEDURES:

Follow the procedures found at 45 CFR part 613.

RECORD SOURCE CATEGORIES:

Information is obtained from the individual reviewers, suggestions from other reviewers, the “Principal Investigator/proposal File” (NSF-5O), other applicants for NSF funding or other members of the research community, public sources, and from NSF program officials.

EXEMPTIONS CLAIMED FOR THE SYSTEM:

The portions of this system consisting of data that would identify reviewers or other persons supplying evaluations of NSF proposals have been exempted at 45 CFR part 613.5, pursuant to 5 U.S.C. 552a(k)(5).

NSF-54

SYSTEM NAME:

Reviewer/Fellowships and Other Awards File and Associated Records.

SECURITY CLASSIFICATION:

None.

SYSTEM LOCATION:

NSF headquarters, Virginia.

CATEGORIES OF INDIVIDUALS COVERED BY THE SYSTEM:

Reviewers who evaluate Foundation fellowships or other applications or nominations, either by submitting individual comments and/or serving on review panels.

CATEGORIES OF RECORDS IN THE SYSTEM:

The “Reviewer/Fellowships, and Other Awards File and Associated Records” system is a subsystem of the “Fellowships and Other Awards” system (NSF-12), and contains the reviewer's name, nominee or applicant's name and identifying number, if any, and other related material. Information supplied by reviewers or potential reviewers includes their affiliation, contact information, educational degrees, research experiences and demographic information if voluntarily provided.

AUTHORITY FOR MAINTENANCE OF THE SYSTEM:

20 U.S.C. 3915, 42 U.S.C. 1869, 1870, 1880, 1881a, and 44 U.S.C. 3101.

PURPOSE(S):

To reference specific reviewers and maintain appropriate files for use in evaluating applications for fellowships, awards and other support; to help select reviewers as part of the merit review process and to carry out other authorized internal duties.

ROUTINE USES OF RECORDS MAINTAINED IN THE SYSTEM, INCLUDING CATEGORIES OF USERS AND THE PURPOSES OF SUCH USES:

NSF standard routine uses apply. In addition, information may be disclosed to:

(1) Qualified reviewers (the names of other reviewers and related review material only) as part of the NSF application review process.

(2) Other Government agencies or other entities as part of a joint application review process, or in order to coordinate programs or policy.

(3) Federal government agencies needing names of potential reviewers and specialists in particular fields.

(4) Other entities when merging records with other computer files to carry out statistical studies for or otherwise assist NSF with program management, evaluation, or reporting. Disclosure may be made for this purpose to NSF contractors and collaborating researchers, and other government agencies and qualified research institutions and their staffs. Disclosures are made only after scrutiny of research protocols and with appropriate controls. The results of such studies are statistical in nature and do not identify individuals.

(5) Contractors, grantees, volunteers, experts, consultants, advisors, and other individuals who perform a service to or work on or under a contract, grant, cooperative agreement, advisory committee, committee of visitors, or other arrangement with or for the Federal government, as necessary to carry out their duties. The contractors are subject to the provisions of the Privacy Act.

POLICIES AND PRACTICES FOR STORING, RETRIEVING, ACCESSING, RETAINING, AND DISPOSING OF RECORDS IN THE SYSTEM:

STORAGE:

Records are stored in paper and/or on electronic digital media.

RETRIEVABILITY:

Records are retrieved by a reviewer's name or identification number, if any.

SAFEGUARDS:

Records are protected by administrative, technical, and physical safeguards administered by NSF.

RETENTION AND DISPOSAL:

Files are cumulative and maintained indefinitely.

SYSTEM MANAGER(S) AND ADDRESS:

Director or designee of the particular office or program maintaining such records at NSF headquarters, Virginia.

NOTIFICATION PROCEDURE:

Follow the Requesting Access to Records procedures found at 45 CFR part 613.

RECORD ACCESS PROCEDURES:

Follow the Requesting Access to Records procedures found at 45 CFR part 613.

CONTESTING RECORD PROCEDURES:

Follow the procedures found at 45 CFR part 613.

RECORD SOURCE CATEGORIES:

Information is obtained from the individual reviewers, suggestions from other reviewers, the “Principal Investigator/Proposal File” (NSF-50), the “Reviewer/Proposal File and Associated Records” (NSF-51) and the “Fellowships and Other Awards” (NSF-12), applicants for NSF funding or other members of the research community, public sources, and from NSF program officials.

EXEMPTIONS CLAIMED FOR THE SYSTEM:

The portions of this system consisting of investigatory material that would identify references, reviewers, or other persons supplying evaluations of applicants or nominees for fellowships or other awards (and where applicable, their proposals) have been exempted at 45 CFR 613.5 pursuant to 5 U.S.C. 552a(k)(5).

NSF-64

SYSTEM NAME:

Project Participant File.

SECURITY CLASSIFICATION:

None.

SYSTEM LOCATION:

NSF headquarters, Virginia.

CATEGORIES OF INDIVIDUALS COVERED BY THE SYSTEM:

Individual participants who do work under NSF-supported projects and meet specified criteria, other than PIs or project directors. Includes, for example, other investigators, post-doctoral associates, graduate and undergraduate assistants.

CATEGORIES OF RECORDS IN THE SYSTEM:

Information gathered primarily through reporting on funded projects about those who are supported by NSF awards or otherwise involved in projects supported by NSF awards. The information is electronic and retrievable by name of individual project participant. The information includes: Name; demographic information, if voluntarily provided; project worked on; involvement in project; level of effort; and whether financially supported by NSF.

AUTHORITY FOR MAINTENANCE OF THE SYSTEM:

42 U.S.C. 1870 and 44 U.S.C. 3101.

PURPOSE(S) OF THE SYSTEM:

Supplements other information gathered via project reporting on projects funded by NSF. The primary purpose is to enable NSF to identify outcomes of projects funded under NSF awards for management, evaluation, and for reporting. Information on participants will normally be aggregated, usually statistically, to identify outcomes of NSF programs. On occasion non-sensitive information might be used to identify persons who have achieved distinction in science, engineering, education, or the like (for example, by award of a prize) as beneficiaries of NSF support.

The information in the system may also be used secondarily for compatible purposes including to:

(1) Identify scientists, engineers, or educators who may be interested in applying for support, in attending a scientific or similar meeting, in applying for a position, or in taking advantage of some similar opportunity;

(2) Identify possible candidates to serve as reviewers in the peer review system or for inclusion on a panel or advisory committee (information from this system may be entered in the NSF's reviewer databases, NSF-51 and NSF-54, for this purpose).

ROUTINE USES OF RECORDS MAINTAINED IN THE SYSTEM, INCLUDING CATEGORIES OF USERS AND THE PURPOSES OF SUCH USES:

NSF standard routine uses apply. In addition, information may be disclosed to:

(1) A government agency so that it can identify and contact persons who might be interested in a scientific, technical, or educational program, meeting, vacancy, or similar opportunity.

(2) Other government agencies or other entities as part of a joint application review process, or in order to coordinate programs or policy.

(3) Other entities when merging records with other computer files to carry out statistical studies for or otherwise assist NSF with program management, evaluation, or reporting. Disclosure may be made for this purpose to NSF contractors and collaborating researchers, and other government agencies and qualified research institutions and their staffs. Disclosures are made only after scrutiny of research protocols and with appropriate controls. The results of such studies are statistical in nature and do not identify individuals.

(4) Contractors, grantees, volunteers, experts, consultants, advisors, and other individuals who perform a service to or work on or under a contract, grant, cooperative agreement, advisory committee, committee of visitors, or other arrangement with or for the Federal government, as necessary to carry out their duties in pursuit of the purposes described above. The contractors are subject to the provisions of the Privacy Act.

POLICIES AND PRACTICES FOR STORING, RETRIEVING, ACCESSING, RETAINING, AND DISPOSING OF RECORDS IN THE SYSTEM:

STORAGE:

Records are stored on electronic digital media.

RETRIEVABILITY:

Records are retrieved by a participant's name.

SAFEGUARDS:

Records are protected by administrative, technical, and physical safeguards administered by NSF.

RETENTION AND DISPOSAL:

Records are maintained and disposed of in accordance with NARA approved record schedules. Participant records follow the records retention schedule for awarded proposals. See SORN NSF-50.

SYSTEM MANAGER(S) AND ADDRESS:

Director/Head or designee of the particular Division or Office maintaining such records at NSF headquarters, Virginia.

NOTIFICATION PROCEDURE:

Follow the Requesting Access to Records procedures found at 45 CFR part 613.

RECORD ACCESS PROCEDURES:

Follow the Requesting Access to Records procedures found at 45 CFR part 613.

CONTESTING RECORD PROCEDURES:

Follow the procedures found at 45 CFR part 613.

RECORD SOURCE CATEGORIES:

An individual participant's name, the identity of any project on which the participant worked, and information on the nature and extent of the individual's involvement, level of effort, and NSF support is provided by the PI/grantee through project reporting. Demographic data is supplied by the individual participant on a voluntary basis. The individual participant may report “Do not wish to Provide.”

EXEMPTIONS CLAIMED FOR THE SYSTEM:

None.

[FR Doc. 2014-29760 Filed 12-19-14; 8:45 am]

BILLING CODE 7555-01-P